DEPARTMENT OF HOUSING AND URBAN DEVELOPMENT

[Docket No. FR-5123-N-03]

Notice of Proposed Information Collection for Public Comment on Life After Transitional Housing: Family Follow-Up Interview

AGENCY: Office of Policy Development and Research, HUD.

ACTION: Notice.

SUMMARY: The proposed information collection requirement described below will be submitted to the Office of Management and Budget (OMB) for review, as required by the Paperwork Reduction Act. The Department is soliciting public comments on the subject proposal.

DATES: Comment Due Date: April 16, 2007.

ADDRESSES: Interested persons are invited to submit comments regarding this proposal. Comments should refer to the proposal by name and should be sent to: Reports Liaison Officer, Office of Policy Development and Research, Department of Housing and Urban Development, 451 7th Street, SW., Room 8234, Washington, DC 20410.

FOR FURTHER INFORMATION CONTACT: Paul B. Dornan, Department of Housing and Urban Development, Office of Policy Development and Research, 451 7th Street, SW., Room 8140, Washington, DC 20410; telephone (202) 708-0574, extension 4486 (this is not a toll-free number). Copies of the proposed data collection instruments and other available documents may be obtained from Mr. Dornan.

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond including through the use of appropriate automated collection techniques or other forms of information technology (e.g., permitting electronic submission of responses).

This Notice also lists the following information:

Title of Proposal: Life after Transitional Housing: Family Follow-up Interview.

Description of the Need for the Information and Proposed Use: The Department of Housing and Urban Development has spent over $7 billion of public funds supporting Transitional Housing for homeless individuals and families. There is little research, however, that focuses on what the impact of that substantial public investment has meant in the lives of homeless people. This interview protocol is structured to find out what happens to formerly homeless families once they leave HUD-assisted Transitional Housing and what the impact of Transitional Housing is on the lives of those families. The Department originally submitted this survey for OMB review in June 2005. Completion of the participant follow-up survey by July 2007, the 12-month end-date for those participants who joined the study last, demands extension of OMB approval from April through July 2007.

Members of Affected Public: Members of the following group will be surveyed: The mother and one child of a sample of 200 families who have left HUD-assisted Transitional Housing.

Estimation of the total numbers of hours needed to prepare the information collection including number of respondents, frequency of response, and hours of response: Approximately 200 families will be interviewed once upon leaving the Transitional Housing and three times thereafter, at 3-, 6- and 12-month intervals. Forty-five minutes was scheduled for the initial interview, and 30 minutes for each of the follow-up ones. The total respondent burden would be 100 hours.

Status of the Proposed Information Collection: Pending OMB approval.

Authority: Section 3506 of the Paperwork Reduction Act of 1995, 44 U.S.C. Chapter 35, as amended.

Dated: February 5, 2007.
Darlene F. Williams,
Assistant Secretary for Policy, Development and Research.

[FR Doc. E7-2714 Filed 2-14-07; 8:45 am]

BILLING CODE 4210-67-P